ENVIRONMENTAL PROTECTION AGENCY

40 CFR Part 52

[EPA-R08-OAR-2015-0493; FRL-9942-84-Region 8]

Approval and Promulgation of Air Quality Implementation Plans; Colorado; Revisions to Common Provisions and Regulation Number 3; Corrections

AGENCY: Environmental Protection Agency (EPA).

ACTION: Correcting amendments.

SUMMARY: The Environmental Protection Agency (EPA) published in the January 25, 2016 Federal Register a document concerning the approval of Air Quality State Implementation Plan (SIP) revisions to Colorado Common Provisions and Regulation Number 3. Inadvertently, the publication date of January 25, 2016 was listed in the regulatory text under the heading “EPA Effective Date” instead of the effective date of February 24, 2016. The correct EPA effective date was provided in the rule preamble. This document corrects the “EPA Effective Date” within the regulatory text to February 24, 2016.

DATES: This correcting amendment is effective on April 12, 2016.

FOR FURTHER INFORMATION CONTACT: Jaslyn Dobrahner, Air Program, U.S. Environmental Protection Agency (EPA), Region 8, Mail Code 8P-AR, 1595 Wynkoop Street, Denver, Colorado 80202-1129, (303) 312-6252, dobrahner.jaslyn@epa.gov.

SUPPLEMENTARY INFORMATION: The EPA published a document in the January 25, 2016 Federal Register (81 FR 3963) concerning air quality SIP revisions to Colorado's Common Provisions and Regulation Number 3. These revisions became effective on February 24, 2016 as correctly noted in the rule preamble. The “EPA Effective Date” within the regulatory text for this action was inadvertently listed as January 25, 2016. This correction revises the “EPA Effective Date” within the regulatory text to reflect the actual EPA effective date of February 24, 2016.

List of Subjects in 40 CFR Part 52

Environmental protection, Air pollution control, Carbon monoxide, Incorporation by reference, Intergovernmental relations, Greenhouse gases, Lead, Nitrogen dioxide, Ozone, Particulate matter, Reporting and recordkeeping requirements, Sulfur oxides, Volatile organic compounds.

Accordingly, 40 CFR part 52 is corrected by making the following correcting amendments:

PART 52—APPROVAL AND PROMULGATION OF IMPLEMENTATION PLANS

1. The authority citation for Part 52 continues to read as follows:

Authority: 42 U.S.C. 7401 et seq.

Subpart G—Colorado

2. Section 52.320(c), the Table is amended:

a. Under “5 CCR 1001-02 Common Provision Regulation” by revising entries “I” and “II”;

b. Under “5 CCR 1001-05, Regulation Number 3, Part A, Concerning General Provisions Applicable to Reporting and Permitting” by revising entries “I”, “II”, “V”, “VI”, “VIII”, and “Appendix B”;

c. Under “5 CCR 1001-05, Regulation Number 3, Part B, Concerning Construction Permits” by revising entries “II” and “III”; and

d. Under “5 CCR 1001-05, Regulation Number 3, Part D, Concerning Major Stationary Source New Source Review and Prevention of Significant Deterioration” by revising entries “I”, “II”, “III”, “V”, “VI”, “X” “XIII”, “XIV”, and “XV”.

The revisions read as follows:

§ 52.320 Identification of plan.

* * * * *

(c) * * *

Title | State effective date | EPA effective date | Final rule citation/date | Comments
* * * * * * *
5 CCR 1001-02, Common Provisions Regulation
I. Definitions, Statement of Intent, and General Provisions Applicable to all Emission Control Regulations adopted by the Colorado Air Quality Control Commission | 1/30/10 12/15/10 | 2/24/16 | 81 FR 3963, 1/25/16 | Except I.G. Definitions, “Construction” and “Day”
II. General | 1/30/10 | 2/24/16 | 81 FR 3963, 1/25/16 | Except II.I; II.J.5.
* * * * * * *
5 CCR 1001-05, Regulation Number 3, Part A, Concerning General Provisions Applicable to Reporting and Permitting
I. Applicability | 12/15/2010 12/15/2011 2/15/2013 | 2/24/16 | 81 FR 3963, 1/25/16 | Except I.B.31.c. and I.B.31.d.
II. Air Pollutant Emission Notice (APEN) Requirements | 12/15/2010 12/15/2011 2/15/2013 | 2/24/16 | 81 FR 3963, 1/25/16 |
* * * * * * *
V. Certification and Trading of Emission Reduction Credits Offset and Netting Transactions | 12/15/2010 2/15/2013 | 2/24/16 | 81 FR 3963, 1/25/16 |
VI. Fees | 12/15/2010 2/15/2013 | 2/24/16 | 81 FR 3963, 1/25/16 |
* * * * * * *
VIII. Technical Modeling and Monitoring Requirements | 12/15/2010 | 2/24/16 | 81 FR 3963, 1/25/16 |
* * * * * * *
Appendix B, Non-criteria Reportable Pollutants (Sorted by BIN) | 12/15/2010 2/15/2013 | 2/24/16 | 81 FR 3963, 1/25/16 |
5 CCR 1001-05, Regulation Number 3, Part B, Concerning Construction Permits
* * * * * * *
II. General Requirements for Construction Permits | 12/15/2010 12/15/2011 | 2/24/16 | 81 FR 3963, 1/25/16 |
III. Construction Permit Review Procedures | 12/15/2010 12/15/2011 2/15/2013 | 2/24/16 | 81 FR 3963, 1/25/16 |
5 CCR 1001-05, Regulation Number 3, Part D, Concerning Major Stationary Source New Source Review and Prevention of Significant Deterioration
I. Applicability | 12/15/2010 2/15/2013 | 2/24/16 | 81 FR 3963, 1/25/16 |
II. Definitions | 12/15/2010 12/15/2011 2/15/2013 | 2/24/16 | 81 FR 3963, 1/25/16 | Except II.A.26.d., the phrase “and only PM2.5 emissions can be used to evaluate the net emissions increase for PM2.5”
III. Permit Review Procedures | 12/15/2011 | 2/24/16 | 81 FR 3963, 1/25/16 |
* * * * * * *
V. Requirements Applicable to Nonattainment Areas | 12/15/2011 2/15/2013 | 2/24/16 | 81 FR 3963, 1/25/16 |
VI. Requirements applicable to attainment and unclassifiable areas and pollutants implemented under Section 110 of the Federal Act (Prevention of Significant Deterioration Program) | 12/15/2010 12/15/2011 2/15/2013 | 2/24/16 | 81 FR 3963, 1/25/16 | Except for VI.A.1.c., the phrase “for phases that commence construction more than 18 months after the initial granting of the permit”; VI.A.2., the phrase “either Section VI.A.2.a. or b., as clarified for any relevant air pollutant, in Section VI.A.2.c.”; VI.A.2.c.; VI.B.3.a.(iii) in reference to PM2.5 monitoring exemption; and VI.B.3.d.
* * * * * * *
X. Air Quality Limitations | 12/15/2011 | 2/24/16 | 81 FR 3963, 1/25/16 |
* * * * * * *
XIII. Federal Class I Areas | 12/15/2011 | 2/24/16 | 81 FR 3963, 1/25/16 |
XIV. Visibility | 12/15/2010 | 2/24/16 | 81 FR 3963, 1/25/16 |
XV. Actuals PALs | 12/15/2010 | 2/24/16 | 81 FR 3963, 1/25/16 |
* * * * * * *

* * * * *

Dated: March 24, 2016.
Shaun L. McGrath,
Regional Administrator, Region 8.

[FR Doc. 2016-08274 Filed 4-11-16; 8:45 am]

BILLING CODE 6560-50-P